DEPARTMENT OF LABOR

Mine Safety and Health Administration

Notice of Affirmative Decisions on Petitions for Modification Granted in Whole or in Part

AGENCY: Mine Safety and Health Administration (MSHA), Labor.

ACTION: Notice of Affirmative Decisions on Petitions for Modification Granted in Whole or in Part.

SUMMARY: The Mine Safety and Health Administration (MSHA) enforces mine operator compliance with mandatory safety and health standards that protect miners and improve safety and health conditions in U.S. mines. This Federal Register Notice (FR Notice) notifies the public that it has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Acting Deputy Director, Office of Standards, Regulations and Variances at 202-693-9475 (Voice), fontaine.roslyn@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2008-001-M.

FR Notice: 73 FR 47981 (August 15, 2008).

Petitioner: EP Minerals, LLC, 2630 Graham Blvd., Vale Oregon 97918.

Mine: Clark Mill, MSHA I.D. No. 26-00677, located in Storey County, Nevada; Colado Plant, MSHA I.D. No. 26-00680, located in Pershing County, Nevada; and Celatom Mill, MSHA I.D. No. 35-03236, located in Malheur County, Oregon.

Regulation Affected: 30 CFR 56.20001 (Intoxicating beverages and narcotics).

• Docket Number: M-2009-045-C.

FR Notice: 74 FR 67924 (December 21, 2009).

Petitioner: Newtown Energy, Inc., P.O. Box 189, Comfort, West Virginia 25049.

Mine: Eagle Mine, MSHA I.D. No. 46-08759 and Coalburg No. 2 Mine, MSHA I.D. No. 46-09231, located in Kanawha County, West Virginia; and Coalburg No. 1 Mine, MSHA I.D. No. 46-08993, located in Boone County, West Virginia.

Regulation Affected: 30 CFR 75.1101-1(b) (Deluge-type water spray systems).

Docket Number: M-2009-046-C.

FR Notice: 74 FR 67924 (December 21, 2009).

Petitioner: FKZ Coal Inc., P.O. Box 62, Locust Gap, Pennsylvania 17840.

Mine: No. 1 Slope Mine, MSHA I.D. No. 36-08637, located in Northumberland County, Pennsylvania.

Regulation Affected: 30 CFR 75.1400 (Hoisting equipment; general).

• Docket Number: M-2009-047-C.

FR Notice: 74 FR 67924 (December 21, 2009).

Petitioner: Nufac Mining Company, Inc., P.O. Box 1085, Beckley, West Virginia.

Mine: Buckeye Mine, MSHA I.D. No. 46-08769, located in McDowell County, West Virginia.

Regulation Affected: 30 CFR 75.1101-1(b) (Deluge-type water spray systems).

• Docket Number: M-2009-048-C.

FR Notice: 74 FR 67924 (December 21, 2009).

Petitioner: Pay Car Mining, Inc., P.O. Box 1085, Beckley, West Virginia 25801.

Mine: No. 58 Mine, MSHA I.D. No. 46-08884, located in McDowell County, West Virginia.

Regulation Affected: 30 CFR 75.1101-1(b) (Deluge-type water spray systems).

• Docket Number: M-2009-051-C.

FR Notice: 75 FR 3257 (January 20, 2010).

Petitioner: Rockhouse Creek Development, LLC, 210 Larry Joe Harless Drive, P.O. Box 1389, Gilbert, West Virginia 25621.

Mine: No. 3A Mine, MSHA I.D. No. 46-09279, located in Mingo County, West Virginia.

Regulation Affected: 30 CFR 75.1101-1(b) (Deluge-type water spray systems).

• Docket Number: M-2009-059-C.

FR Notice: 75 FR 3254 (January 20, 2010).

Petitioner: McClane Canyon Mining, LLC, P.O. Box 98, Loma, Colorado 81524.

Mine: McClane Canyon Mine, MSHA I.D. No. 05-03013, located in Garfield County, Colorado.

Regulation Affected: 30 CFR 75.1101-1(b) (Deluge-type water spray systems).

• Docket Number: M-2009-060-C.

FR Notice: 75 FR 3254 (January 20, 2010).

Petitioner: Brooks Run Mining Company, LLC, 25 Little Birch Road, Sutton, West Virginia 26601.

Mine: Saylor Mine, MSHA I.D. No. 46-09126, located in Braxton County, West Virginia, and Poplar Ridge Deep Mine, MSHA I.D. No. 46-08885, located in Webster County, West Virginia.

Regulation Affected: 30 CFR 75.1101-1(b) (Deluge-type water spray systems).

Dated: Dated: June 11, 2010.
Patricia W. Silvey,
Director, Office of Standards, Regulations and Variances.

[FR Doc. 2010-14591 Filed 6-16-10; 8:45 am]

BILLING CODE 4510-43-P